DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form, and OMB Number: Application for Discharge of Member or Survivor of Group Certified to Have Performed Active Duty with the Armed Forces of the Untied States; DD Form 2168; OMB Number 0704-0100.

Type of Request: Extension.

Number of Respondents: 3,000.

Responses per Respondent: 1.

Annual Responses: 3,000.

Average Burden Per Response: 30 minutes.

Annual Burden Hours: 1,500.

Needs and Uses: Public Law 95-202, Section 401, directs the Secretary of Defense to determine if civilian employment or contractual service rendered by groups to the Armed Forces of the United States shall be considered active duty. This information collection provides the necessary information to assist each of the Military Departments in determining if an applicant was a member of a group that has performed active military service. Those individuals who have been recognized as a member of an approved group are eligible for benefits provide for by laws administered by the Veterans' Administration.

Affected Public: Individual or Households.

Frequency: On occasion.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DoD Clearance Officer: Mr. Robert Cushing. Written request for copies of the information collection proposal should be sent to Mr. Cushing, WHS/DIOR, 1215 Jefferson Davis Highway, Suite 1204, Arlington, VA 22202-4302.

Dated: August 23, 2001.
Patricia L. Toppings,
Alternate OSD Federal Register Liaison Officer, Department of Defense.

[FR Doc. 01-22519 Filed 9-6-01; 8:45 am]

BILLING CODE 5001-08-M